AGENCY FOR INTERNATIONAL DEVELOPMENT

Privacy Act of 1974, System of Records

AGENCY: United States Agency for International Development.

ACTION: Notice of significantly altered system of records.

SUMMARY: The United States Agency for International Development (USAID) is issuing public notice of its intent to alter its system of records maintained in accordance with the Privacy Act of 1974 (5 U.S.C. 552a), as amended, entitled “USAID 029—Deployment Tracking System,” originally published in the Federal Register on Tuesday, March 3, 2009 (74 FR 40).

DATES: Public comments must be received on or before September 8, 2009. Unless comments are received that would require a revision, this update to the system of records will become effective on September 16, 2009.

ADDRESSES: You may submit comments:

Paper Comments:

Mail: Chief Privacy Officer, United States Agency for International Development, 1300 Pennsylvania Avenue, NW., Suite 2.12-003, Washington, DC 20523-2120.

Electronic Comments: Federal eRulemaking Portal: http://www.regulations.gov. Follow the instructions on the Web site for submitting comments.

FOR FURTHER INFORMATION CONTACT: General questions regarding this notice should be directed to Stephanie Getson, Office of Civilian Response, (202) 712-1372. Privacy Act related questions should be directed to Rhonda Turnbow, Deputy Chief Privacy Officer (202) 712-0106.

SUPPLEMENTARY INFORMATION: USAID is proposing to alter its system of records pursuant to the Privacy Act (5 U.S.C. 552a), entitled the Deployment Tracking System (DTS). This system was established to support USAID's responsibilities as part of an interagency effort led by the Department of State, known as the Civilian Response Corps (CRC). In order to participate as a partner agency, USAID must have mechanisms in place to identify, assign or employ personnel with appropriate skill sets and have the ability to mobilize these resources rapidly in response to stabilization crisis.

USAID is proposing to alter its “Deployment Tracking System Records” to increase the categories of records contained within the system of records. This expansion is needed in order to fully participate with the other partner agencies and meet the data collection requirements of the CRC. USAID proposes to add the following categories of records: Citizenship, military service information, social security number, medical clearance information and security clearance information. This information is required by the CRC to help determine which individuals are appropriate for each mission, assist in coordinating visas, registering individuals on military flights, ensuring individuals are properly cleared for deployment and determining if an individual has the appropriate clearances to attend briefings.

Philip M. Heneghan,
Chief Privacy Officer.

USAID-029

Revise the categories of records covered by the system to read as follows:

* * * * *

CATEGORIES OF RECORDS IN THE SYSTEM:

This system will contain information relevant to the planning, administration, training, and management of CRC personnel. Categories of records include: Full name, date of birth, height/weight, hair/eye color, blood type, marital status, religion, citizenship, home address, home phone number, mobile phone number, personal e-mail address, emergency contact, next of kin, passport information, driver license information, military record, citizenship, social security number, medical clearance information and security clearance information.

* * * * *

[FR Doc. E9-18942 Filed 8-6-09; 8:45 am]

BILLING CODE 6116-01-P